ENVIRONMENTAL PROTECTION AGENCY

[FRL-11922-01-OW]

Notice of Public Listening Session of the Environmental Financial Advisory Board (EFAB) Water Reuse Tax Incentive Workgroup

AGENCY: Environmental Protection Agency (EPA).

ACTION: Notice of public listening session.

SUMMARY: The Environmental Protection Agency (EPA) announces a public listening session via a webcast of the Environmental Financial Advisory Board (EFAB) Water Reuse Tax Incentive Workgroup. The listening session will be held in real-time via webcast and public comments may be provided in writing in advance. Please see SUPPLEMENTARY INFORMATION for further details. The purpose of the listening session will be for the EFAB to solicit public comment to inform its formulation of recommendations to the EPA on the public benefit of a potential Federal investment tax credit to support private investment in water reuse and recycling systems. An investment tax credit would focus on encouraging investment in equipment at privately owned industrial facilities to enable the use of municipally provided recycled water and/or enable onsite treatment and reuse of different sources of water within an industrial facility. The Board seeks public comment on how a potential investment tax credit could be structured to achieve the maximum public benefit and minimize any externalities or unintended consequences, and how that structure may differ for industrial onsite reuse versus industrial use of treated recycled water. The listening session will be conducted fully virtual via webcast.

DATES: The listening session will be held on May 21, 2024, from 1 p.m. to 2:30 p.m. Eastern Time.

ADDRESSES: Webcast: Information to access the webcast will be provided upon registration in advance of the listening session.

FOR FURTHER INFORMATION CONTACT: Any member of the public who wants information about the listening session may contact Tara Johnson via telephone/voicemail at (202) 564-6186 or email to efab@epa.gov. General information concerning the EFAB is available at www.epa.gov/waterfinancecenter/efab.

SUPPLEMENTARY INFORMATION:

Background: The EFAB is an EPA advisory committee chartered under the Federal Advisory Committee Act (FACA), 5 U.S.C. App. 2, to provide advice and recommendations to the EPA on innovative approaches to funding environmental programs, projects, and activities. Administrative support for the EFAB is provided by the Water Infrastructure and Resiliency Finance Center within the EPA's Office of Water. Pursuant to FACA and EPA policy, notice is hereby given that the EFAB will hold a public listening session via a webcast to solicit public comment to inform its formulation of the recommendations to the EPA on the public benefit of a potential Federal investment tax credit to support private investment in water reuse and recycling systems. An investment tax credit would focus on encouraging investment in equipment at privately owned industrial facilities to enable the use of municipally provided recycled water and/or enable onsite treatment and reuse of different sources of water within an industrial facility. The Board seeks public comment on how a potential investment tax credit could be structured to achieve the maximum public benefit and minimize any externalities or unintended consequences, and how that structure may differ for industrial onsite reuse versus industrial use of treated recycled water.

Registration for the Listening Session: To register for the listening session, please visit www.epa.gov/waterfinancecenter/efab#meeting. Interested persons who wish to attend the listening session must register by May 20, 2024, to attend via webcast. Pre-registration is strongly encouraged. In the event the listening session cannot be held, an announcement will be made on the EFAB website at www.epa.gov/waterfinancecenter/efab and all registered attendees will be notified.

Availability of Listening Session Materials: Listening session materials, including the agenda and briefing materials, will be available on the EPA's website at www.epa.gov/waterfinancecenter/efab.

Procedures for Providing Public Input: Public comment for consideration by the EPA's Federal advisory committees has a different purpose from public comment provided to the EPA program offices. Therefore, the process for submitting comments to a Federal advisory committee is different from the process used to submit comments to an EPA program office. Federal advisory committees provide independent advice to the EPA. Members of the public may submit comments on matters being considered by the EFAB for consideration as the Board develops its advice and recommendations to the EPA.

Oral Statements: In general, individuals or groups requesting an oral presentation at a public listening session will be limited to three minutes each. Persons interested in providing oral statements at the May 2024 listening session should register in advance and provide notification, as noted in the registration confirmation, by May 17, 2024, to be placed on the list of registered speakers. Those providing oral statements may also submit supplementary written statements per the instructions below.

Written Statements: Written statements should be received by May 17, 2024, so that the information can be made available to the EFAB for its consideration prior to the listening session. Written statements should be sent via email to efab@epa.gov. Members of the public should be aware that their personal contact information, if included in any written comments, may be posted to the EFAB website. Copyrighted material will not be posted without explicit permission of the copyright holder.

Accessibility: For information on access or services for individuals with disabilities or to request accommodations for a disability, please register for the listening session and list any special requirements or accommodations needed on the registration form at least 10 business days prior to the listening session to allow as much time as possible to process your request.

Andrew D. Sawyers,
Director, Office of Wastewater Management, Office of Water.

[FR Doc. 2024-09667 Filed 5-2-24; 8:45 am]

BILLING CODE 6560-50-P